DEPARTMENT OF DEFENSE

Department of the Navy

Notice of Intent To Grant Exclusive Patent License; SPADAC, Inc.; Correction

AGENCY: Department of the Navy, DoD.

ACTION: Notice; correction.

SUMMARY: The Department of the Navy published a notice in the Federal Register, 73 FR 19056, on April 8, 2008, announcing its intent to grant to SPADAC, Inc., a revocable, nonassignable, exclusive license in the United States and certain foreign countries. The notice is being corrected to reflect the Government's interest in the invention.

FOR FURTHER INFORMATION CONTACT: Rita Manak, Head, Technology Transfer Office, NRL Code 1004, 4555 Overlook Avenue, SW., Washington, DC 20375-5320, telephone: 202-767-3083, fax: 202-404-7920, or e-mail: rita.manak@nrl.navy.mil.

Correction

In the Federal Register of April 8, 2008, in FR Doc. E8-7261, make the following changes:

1. In the first column, on page 19056, correct the SUMMARY section to read:

“The Department of the Navy hereby gives notice of its intent to grant to SPADAC Inc., a revocable, nonassignable, exclusive license in the United States and certain foreign countries, the Government's interest in the invention described in U.S. Patent No. 7,120,620: Method and System for Forecasting Events and Threats Based on Geospatial Modeling, Navy Case No. 96,695 and any continuations, divisionals or re-issues thereof.”

Dated: April 25, 2008.
T.M. Cruz,
Lieutenant, Judge Advocate General's Corps, U.S. Navy, Federal Register Liaison Officer.

[FR Doc. E8-9565 Filed 4-30-08; 8:45 am]

BILLING CODE 3810-FF-P